DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1129.

The following request has been submitted to the Office of Management and Budget for review under the Paperwork Reduction Act of 1995:

Proposed Project: National Sample Survey of Nurse Practitioners (OMB No. 0915-xxxx)—[New]

The number of nurse practitioners (NP) in the United States has been growing rapidly over the past decade, and continued growth is expected as the annual number of graduates from NP programs is at an all time high. Furthermore, over the past 20 years, financial and regulatory changes have impacted the growth in NPs. The expansion of health insurance under the “Patient Protection and Affordable Care Act” (Pub. L. 111-148) will have an impact on the demand for services. With increasing numbers, NPs are poised to play a critical role in the nation's efforts to expand access to health care services.

Despite the increasing number and roles of NPs, unfortunately, there are currently only limited, inconsistent data available to policy makers and the health care community. Accordingly, it is difficult for these leaders to quantify or fully understand the role of NPs in the current (or future projected course of the) health care system. In fact, it is difficult to estimate with confidence the number of NPs practicing in the U.S. today.

The primary purpose of the Bureau of Health Profession's National Sample Survey of Nurse Practitioners data collection is to: (1) Improve estimates of NPs providing services; (2) describe the settings where NPs are working; (3) identify the positions/roles in which NPs are working; (4) describe the activities and services NPs are providing in the healthcare workforce; (5) determine the specialties in which NPs are working; (6) explore NPs' satisfaction with and perception of the extent to which they are working to their full scope of practice; and (7) assess variations in practice settings, positions, and practice patterns by demographic and educational characteristics.

The statutory provision that authorizes this data collection is section 761(b) of the Public Health Service Act, “National Center for Health Care Workforce Analysis,” which is codified at 42 U.S.C. 294n(b). The information obtained from this survey will ultimately lead to more accurate and complete national estimates of the current NP supply as well as assist in the development of more accurate NP supply and demand projections.

The annual estimate of burden is as follows:

Instrument | Number of respondents | Responses per respondent | Total responses | Hours per response | Total burden hours
National Sample Survey of Nurse Practitioners | 14,300 | 1 | 14,300 | .33 | 4,719
Total | 14,300 |  | 14,300 |  | 4,719

Written comments and recommendations concerning the proposed information collection should be sent within 30 days of this notice to the desk officer for HRSA, either by email to OIRA_submission@omb.eop.gov or by fax to (202) 395-6974. Please direct all correspondence to the “attention of the desk officer for HRSA.”

Dated: November 17, 2011.
Reva Harris,
Acting Director, Division of Policy and Information Coordination.

[FR Doc. 2011-30214 Filed 11-22-11; 8:45 am]

BILLING CODE 4165-15-P